DEPARTMENT OF TRANSPORTATION

Office of the Secretary

Aviation Proceedings, Agreements Filed the Week Ending June 20, 2003

The following Agreements were filed with the Department of Transportation under the provisions of 49 U.S.C. Sections 412 and 414. Answers may be filed within 21 days after the filing of the application.

Docket Number: OST-2003-15429.

Date Filed: June 16, 2003.

Parties: Members of the International Air Transport Association.

Subject: Mail Vote 305, PTC COMP 1061 dated 17 June 2003, General Increase Resolution 002mm, (except within Europe, between USA/US Territories and Austria, Chile, Czech Republic, Finland, France (including French Guiana, French Polynesia, Guadeloupe, Martinique, New Caledonia, Reunion, Saint Pierre and Miquelon), Germany, Iceland, Italy, Korea (Rep. of), Malaysia, Netherlands, New Zealand, Panama, Scandinavia, Switzerland) Intended effective date: 1 July 2003.

Docket Number: OST-2003-15430.

Date Filed: June 16, 2003.

Parties: Members of the International Air Transport Association.

Subject: PTC12 CAN-EUR 0093 dated 13 June 2003, TC12 Canada-Europe Expedited Resolution 002j r1-r9. Intended effective date: 1 August 2003.

Docket Number: OST-2003-15474.

Date Filed: June 19, 2003.

Parties: Members of the International Air Transport Association.

Subject: Mail Vote 304, PTC123 0240 dated 20 June 2003, North, Mid, South Atlantic, Special Passenger Amending Resolution 010r from India r1-r15. Intended effective date: 1 July 2003.

Docket Number: OST-2003-15480.

Date Filed: June 20, 2003.

Parties: Members of the International Air Transport Association.

Subject: PTC31 South 0142 dated 23 May 2003, TC31 South Pacific (except between French Polynesia, New Caledonia, New Zealand and USA) Resolutions r1-r29, PTC31 South 0143 dated 23 May 2003, TC31 South Pacific between French Polynesia, New Caledonia, New Zealand and USA Resolutions r30-r46, Minutes—PTC31 South 0144 dated 20 June 2003, Tables—PTC31 South Fares 0033 dated 17 June 2003. Intended effective date: 1 October 2003.

Dorothy Y. Beard,
Chief, Docket Operations & Media Management, Federal Register Liaison.

[FR Doc. 03-16709 Filed 7-1-03; 8:45 am]

BILLING CODE 4910-62-P